DEPARTMENT OF ENERGY

Office of Science

Fusion Energy Sciences Advisory Committee

AGENCY: Department of Energy.

ACTION: Notice of open meeting.

SUMMARY: This notice announces a meeting of the Fusion Energy Sciences Advisory Committee. The Federal Advisory Committee Act (Public Law 92-463, 86 Stat. 770) requires that public notice of these meetings be announced in the Federal Register.

DATES: Tuesday, February 27, 2001, 9:00 a.m. to 6:00 p.m.; Wednesday, February 28, 2001, 9:00 a.m. to 12:00 p.m.

ADDRESSES: Hilton Gaithersburg, 620 Perry Parkway, Gaithersburg, Maryland.

FOR FURTHER INFORMATION CONTACT: Albert L. Opdenaker, Office of Fusion Energy Sciences; U.S. Department of Energy; 19901 Germantown Road; Germantown, MD 20874-1290; Telephone: 301-903-4927.

SUPPLEMENTARY INFORMATION: Purpose of the Meeting: The major purpose of this meeting is for the full committee to hear status reports from its two subpanels, one dealing with the burning plasma physics charge and the other dealing with reviewing the theory activities.

Tentative Agenda

Tuesday, February 27, 2001

• Office of Science Perspective

• OFES Perspective

• Report on the Fusion Materials Program

• Report on the Workshop on Burning Plasma

• Status Report on the Activities of Burning Plasma Physics Subpanel

• Status Report on the Activities of Theory Program Review Subpanel

Wednesday, February 28, 2001

• Plans for the Compact Stellarator Program

• Report on NSF Physics Frontier Centers

• Public Comments

• Adjourn

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW., Washington, DC, between 9:00 a.m. and 4:00 p.m., Monday through Friday, except Federal holidays.

Issued at Washington, DC, on February 1, 2001.
Carol Anne Kennedy,
Acting Deputy Advisory Committee Management Officer.

[FR Doc. 01-3186 Filed 2-6-01; 8:45 am]

BILLING CODE 6450-01-P